DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of April and May 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-56,787; Video Display Corp., Chroma Video Div., White Mills, PA

TA-W-56,800; Alcoa, Inc., Badin Works, Electrode Department, Badin, NC

TA-W-56,828; Tarkett, Inc., Commercial Div., Florence, AL

TA-W-56,883; General Motors Corp., Powertrain Div., Warren, MI

TA-W-56,817 & A; Drive Plus, Inc., Axle Plant, Lock Haven, PA and Steering Plant, Lock Haven, PA

TA-W-56,782; FC Meyer Packaging, LLC/Millen Industries, Inc., Lawrence, MA

TA-W-56,836; Leggett and Platt, Inc., Fashion Bed Group-York, York, PA

TA-W-56,879; Integrated Device Technology, Inc., Salinas, CA

TA-W-56,810; Miracle Recreation Equipment Co., a subsidiary of Playpower, Advance, MO

The investigation revealed that criteria (a)(2)(A)(I.B.)(Sales or production, or both, did not decline) and (a)(2)(B)(II.B) (No shift in production to a foreign country) have not been met.

TA-W-56,785; Michigan Sugar Company, Carrollton, MI

The investigation revealed that criterion (a)(2)(A)(I.A) and (a)(2)(B)(II.A) (no employment decline) has not been met.

TA-W-57,046; Bernhardt Furniture Co., Plant 7, Contract Office Furniture Div., Lenoir, NC

TA-W-56,963; Medsep Corp., d/b/a Pall Medical, Covina, CA

TA-W-56,994; Chan-X of California, San Jose, CA

TA-W-57,010; The Gwinn Agency, Spartanburg, SC

TA-W-56820A; Motorola, Inc., Embedded Communications Computing Division, Tempe, AZ

The workers firm does not produce an article as required for certification under Section 222 of the Trade Act of 1974.

TA-W-56,905; The Lane Co., a subsidiary of Lane Furniture Industries, Inc., a subsidiary of Furniture Brands International, Altavista, VA

TA-W-56,866; Sun Microsystems, Inc., Nashua IT Business Unit, Nashua, NH

TA-W-57,052; SITEL/NAFS, Norcross, GA

TA-W-56,936; Allied Personnel Services, leased workers at Guardian Life Insurance Co., Bethlehem, PA

TA-W-56,779; Aon Service Corporation, ASC-IT Subdivision, Glenview, IL

TA-W-56,955; Brookwood Medical Center, Medical Transcription Division, Birmingham, AL

TA-W-56,886; MCI, Inc., working on-site at NCO Group, Inc., Houston NCO Call Center, Houston, TX Tools, Inc., Batavia, NY

The investigation revealed that criterion (a)(2)(A)(I.C) (Increased imports and (a)(2)(B)(II.C) (has shifted production to a foreign country) have not been met.

TA-W-56,780; ETEC, an Applied Materials Co., a subsidiary of Applied Materials, Inc., Hillsboro, OR

TA-W-56,869; National Textiles, Textiles Div., Hodges, SC

Affirmative Determinations for Worker Adjustment Assistance

The following certifications have been issued; the date following the company name and location of each determination references the impact date for all workers of such determination.

The following certifications have been issued. The requirements of (a)(2)(A) (increased imports) of Section 222 have been met.

TA-W-56,806; Carolina Glove Company, Wilkes Plant, N. Wilkesboro, NC: March 23, 2004.

TA-W-56,865; Meyers Ind., Hickory, NC: March 15, 2004.

TA-W-57,035; DeRoyal (Stat Medical), DeRoyal Patient Care, New Tazewell, TN: April 15, 2004.

TA-W-56,805; Glen Raven Technical Fabrics, LLC, Subsidiary of Glen Raven, Inc., Burnsville, NC: December 4, 2004.

TA-W-56,951; Nicole Shades, LLC, a div. of Emess Design Group, LLC., Cleveland, OH: March 23, 2004.

TA-W-57,003; Richloom Fabrics Corp., Richloom Home Fashions, Bailey Plant, including on-site leased workers of PMC Corp., Clinton, SC: April 13, 2004.

TA-W-56,809 & A; Halex A Scott Fetzer Co., Hamilton, IN and Bedford Heights, OH: March 16, 2004.

TA-W-56,807; Lexington Home Brands, Plants 2, 4 & 5, Lexington, NC: April 25, 2005.

TA-W-56,939; Blue Ridge Crest, LLC, Galax, VA: April 8, 2004.

TA-W-56,910; Carolina Mills, Inc., Plant #22, Gastonia, NC: April 1, 2004.

TA-W-56,899; Murray, Inc., Brentwood, TN: March 31, 2004.

TA-W-56,822; Seal Glove Manufacturing, Inc., Millersburg, PA: March 21, 2004.

TA-W-56,974; Max Marx Color Corp., Irvington, NJ: April 14, 2004.

TA-W-56,948 & A & B; Standard Commercial Corp., Miller Road Tobacco Processing Facility, Wilson, NC, Miller Road Corporate Headquarters, Wilson, NC and Stantonsburg Road Factory and Office Complex, Wilson, NC: March 25, 2004.

TA-W-56,997; Cinergy Solutions of Rock Hill, working at Celanese Acetate, LLC, Rock Hill, SC: April 5, 2004.

TA-W-56,783; Compupunch, Inc., Los Angeles, CA: March 10, 2004.

TA-W-56,870; Locklear Manufacturing, Inc., Fort Payne, AL: March 31, 2004.

TA-W-56,993 & A & B; Springs Industries, Inc., Grace Complex, including on-site leased workers of Phillips Staffing, Lancaster, SC, Elliott Plant, including on-site leased workers of Defender Services, Fort Lawn, SC and Frances Plant, including on-site leased workers of Defender Services, Fort Lawn, SC: April 16, 2004.

TA-W-56,844; Design Institute America, Inc., including on-site leased workers of Star Staffing and Action Temporary Services, Jasper, IN: March 21, 2004.

The following certifications have been issued. The requirements of (a)(2)(B) (shift in production) of Section 222 have been met.

TA-W-57,068; Johnson & Johnson CPC, Operations Div., including on-site leased workers of Etcon, Inc., Vend, Inc., Jackson Lawn Care and Maintenance, ABM, and Securitas, Royston, GA: April 15, 2004.

TA-W-57,079; Lyons Diecasting Co., Buckner, MO: April 20, 2004.

TA-W-57,081; GE Security, including leased workers of Express and Spherion, Gladewater, TX: April 28, 2004.

TA-W-56,908 & A; Stoneridge Control Devices, Acuator Product Div., 4x4 Actuator Production, Boston, MA and Switch Products Div., General Motors Headlamp Production, Canton, MA: March 30, 2004.

TA-W-56,972; KAC Holdings, d/b/a Kester, Des Plaines, IL: March 29, 2004.

TA-W-57,014; Tyler Refrigeration, Carrier Commercial Refrigeration, Carrier Corporation, Waxahachie, TX: May 16, 2005.

TA-W-57,048; Osram Sylvania, Lake Zurich, IL: April 14, 2004.

TA-W-57,057; Com-Fo Hosiery Mills, Henderson, NC: April 20, 2004.

TA-W-56,834; Thomasville Furniture Industries, Inc., Plant M, Thomasville, NC: March 21, 2004.

TA-W-57,028; Rockford Powertrain, Inc., Loves Park, IL: April 18, 2004.

TA-W-56,912; Comarco Wireless Technologies, Inc., Power Adapter Production Line, a div. of Comarco, Inc., Irvine, CA: March 30, 2004.

TA-W-56,897; Square D Company, a div. of Schneider Electric, including leased workers of Adecco Personnel, Asheville, NC: May 9, 2005.

TA-W-56,863; Valspar-Furniture Sales Group & International Color Design Center, a subsidiary of Valspar Global Wood Coatings, High Point, NC: March 14, 2004.

TA-W-56,812; Vishay Transducers, Ltd, a division of Vishay Intertechnology, Inc., including leased workers of Volt, Benchmark, Thor, and Source One Staffing, Covina, CA: March 22, 2004.

TA-W-57,005; Burnes Group, LLC, a subsidiary of Global Home Products, including leased workers of Westaff, Claremont, NH: April 14, 2004. Products Division, Ronkonkoma, NY: March 29, 2004.

TA-W-57,012; Springs Industries, Springs Window Fashions, LP, including leased on site workers of Appleone, Integrity Staffing, & Staffmark, Reno, NV: April 7, 2004.

TA-W-56,934; Lennox Hearth Products, Inc., Subsidiary of Lennox International, Inc., Burlington, WA: April 8, 2004.

TA-W-56,988; Acuity Brands Lighting, Inc., a subsidiary of Acuity Brands, Inc., Peerless Lighting Div., including leased workers of Aerotek Staffing, Berkeley, CA.

TA-W-57,038; Sunroc, LLC, a subsidiary of Oasis Corp., including on-site leased workers from Ready Staffing and Adecco, Dover, DE: April 22, 2004.

TA-W-56,890; Wellington Cordage, LLC, Pilot Mountain, NC: March 8, 2004.

TA-W-56,975; U.S. Marine, A Brunswick Family Boat Company, Spokane, WA: April 13, 2004.

TA-W-57,144; Ultimate Manufacturing, Inc., San Antonio, TX: 2004.

TA-W-56,820; Manpower International, Inc., On-Site Leased Workers at Motorola, Inc., Embedded Communications Computing Div., Tempe, AZ: March 23, 2004.

The following certifications have been issued. The requirement of upstream supplier to a trade certified primary firm has been met.

TA-W-57,021; Plastic Moldings Company, LLC, Cincinnati Plant, including leased workers of Excel Staffing, Cincinnati, OH: April 12, 2004.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)ii) have not been met for the reasons specified.

The Department as determined that criterion (2) of Section 246 has not been met. Workers at the firm possess skills that are easily transferable.

TA-W-57,038; Sunroc, LLC, a subsidiary of Oasis Corp., including on-site leased workers from Ready Staffing and Adecco, Dover, DE

TA-W-56,844; Design Institute America, Inc., including on-site leased workers of Star Staffing and Action Temporary Services, Jasper, IN

TA-W-56,890; Wellington Cordage, LLC, Pilot Mountain, NC

TA-W-56,934; Lennox Hearth Products, Inc., subsidiary of Lennox International, Inc., Burlington, WA

TA-W-56,975; U.S. Marine, a Brunswick Family Boat Co., Spokane, WA

TA-W-54,890; Inamed Corp., Santa Barbara, CA

TA-W-56,820; Manpower International, Inc., On-Site Leased Workers at Motorola, Inc., Embedded Communications Computing Division, Temple, AZ

The Department as determined that criterion (1) of Section 246 has not been met. Workers at the firm are 50 years of age or older.

TA-W-56,783; Compupunch, Inc., Los Angeles, CA

Since the workers are denied eligibility to apply for TAA, the workers cannot be certified eligible for ATAA.

TA-W-56,787; Video Display Corp., Chroma Video Div., White Mills, PA

TA-W-56,800; Alcoa, Inc., Badin Works, Electrode Department, Badin, NC

TA-W-56,828; Tarkett, Inc., Commercial Division, Florence, AL

TA-W-56,883; General Motors Corp., Powertrain Division, Warren, MI

TA-W-56,817 & A; drive Plus, Inc., Axle Plant, Lock Haven, PA and Steering Plant, Lock Haven, PA

TA-W-56,782; FC Meyer Packaging, LLC/Millen Industries, Inc., Lawrence, MA

TA-W-56,836; Leggett and Platt, Inc., Fashion Bed Group—York, York, PA

TA-W-56,879; Integrated Device Technology, Inc., Salinas, CA

TA-W-57,046; Bernhardt Furniture Co., Plant 7, Contract Office Furniture Division, Lenoir, NC

TA-W-56,963; Medsep Corp., d/b/a Pall Medical, Covina, CA

TA-W-56,905; The Lane Co., a subsidiary of Lane Furniture Industries, Inc., a subsidiary of Furniture Brands International, Altavista, VA

TA-W-56,866; Sun Microsystems, In., Nashua IT Business Unit, Nashua, NH

TA-W-57,052; SITEL/NAFS, Norcross, GA

TA-W-56,936; Allied Personnel Services, leased workers at Guardian Life Insurance Company, Bethlehem, PA

TA-W-56,853; ITEMA America, Inc., Formerly Sultex USA, Spartanburg, SC

TA-W-56,779; Aon Service Corp., ASC-IT Subdivision, Glenview, IL

TA-W-56,955; Brookwood Medical Center, Medical Transcription Division, Birmingham, AL

TA-W-56,886; MCI, Inc., working on-site at NCO Group, Inc., Houston NCO Call Center, Houston, TX

TA-W-56,780; ETEC, an Applied Materials Co., a subsidiary of Applied Materials, Inc., Hillsboro, OR

TA-W-56,869; National Textiles, Textiles Div., Hodges, SC

TA-W-56,994; Chan-X of California, San Jose, CA

TA-W-57,010; The Gwinn Agency, Spartanburg, SC

TA-W-56,810; Miracle Recreation Equipment Co., a subsidiary of Playpower, Advance, MO

TA-W-56,785; Michigan Sugar Co., Carrollton, MI

TA-W-56,820A; Motorola, Inc., Embedded Communications Computing Div., Tempe, AZ

Affirmative Determinations for Alternative Trade Ajdustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-56,806; Carolina Glove Co., Wilkes Plant, N. Wilkesboro, NC: March 23, 2004.

TA-W-56,865; Meyers Ind., Hickory, NC: March 15, 2004.

TA-W-57,035; DeRoyal (Stat Medical), DeRoyal Patient Care, New Tazewell, TN: April 15, 2004.

TA-W-56,805; Glen Raven Technical Fabrics, LLC, subsidiary of Glen Raven, Inc., Burnsville, NC: December 4, 2004.

TA-W-56,951; Nicole Shades, LLC, a Div. of Emess Design Group, LLC, Cleveland, OH: March 23, 2004. City, KY: April 7, 2004.

TA-W-57,003; Richloom Fabrics Corp., Richloom Home Fashions, Bailey Plant, including on-site leased workers of PMC Corp., Clinton, SC: April 13, 2004.

TA-W-56,809; Halex A Scott Fetzer Co., Hamilton, IN and Bedford Heights, OH: March 16, 2004.

TA-W-56,807; Lexington Home Brands, Plant 2, 4 and 5, Lexington, NC: April 25, 2005.

TA-W-56,939; Blue Ridge Crest, LLC, Galax, VA: April 8, 2004.

TA-W-56,910; Carolina Mills, Inc., Plant #22, Gastonia, NC: April 1, 2004.

TA-W-56,899; Murray, Inc., Brentwood, TN: March 31, 2004.

TA-W-56,822; Seal Glove Manufacturing, Inc., Millersburg, PA: March 21, 2004.

TA-W-56,974; Max Marx Color Corp., Irvington, NJ: April 14, 2004.

TA-W-56,948 A & B; Standard Commercial Corp., Miller Road Tobacco Processing Facility, Wilson, NC, Miller Road Corporate Headquarters, Wilson, NC and Stantonsburg Road Factory and Office Complex, Wilson, NC: March 25, 2004.

TA-W-56,997; Cinergy Solutions of Rock Hill, working at Celanese Acetate LLC, Rock Hill, SC: April 5, 2004.

TA-W-57,081; GE Security, including leased workers of Express and Spherion, Gladewater, TX: April 28, 2004.

TA-W-57,014; Tyler Refrigeration, Carrier Commercial Refrigeration, Carrier Corp., Waxahachie, TX: May 16, 2005.

TA-W-57,048; Osram Sylvania, Lake Zurich, IL: April 14, 2004.

TA-W-56,993 & A & B; Springs Industries, Inc., Grace Complex, including on-site leased workers of Phillips Staffing, Lancaster, SC, Elliott Plant, including on-site leased workers of Defender Services, Fort Lawn, SC, Frances Plant, including on-site leased workers of Defender Services, Fort Lawn, SC: April 16, 2004.

TA-W-57,068; Johnson & Johnson CPC, Operations Div., including on-site leased workers of Etcon, Inc., Vend, Inc., Jackson Lawn Care and Maintenance, ABM, and Securitas, Royston, GA: April 15, 2004.

TA-W-57,079; Lyons Diecasting Company, Buckner, MO: April 20, 2004.

TA-W-57,057; Com-Fo Hosiery Mills, Henderson, NC: April 20, 2004.

TA-W-56,908 & A; Stoneridge Control Devices, Acuator Product Div., 4x4 Actuator Production, Boston, MA and Switch Products Div., General Motors Headlamp Production, Canton, MA: March 30, 2004.

TA-W-56,972; KAC Holdings, d/b/a Kester, Des Plaines, IL: March 29, 2004.

TA-W-56,834; Thomasville Furniture Industries, Inc., Plant M, Thomasville, NC: March 21, 2004.

TA-W-57,028; Rockford Powertrain, Inc., Loves Park, IL: April 18, 2004.

TA-W-56,912; Comarco Wireless Technologies, Inc., Power Adapter Production Line, a div. of Comarco, Inc., Irvine, CA: March 30, 2004.

TA-W-56,897; Square D Company, a div. of Schneider Electric, including leased workers of Adecco Personnel, Asheville, NC: May 9, 2005.

TA-W-56,863; Valspar-Furniture Sales Group & International Color Design Center, a subsidiary of Valspar Global Wood Coatings, High Point, NC: March 14, 2004.

TA-W-56,812; Vishay Transducers, Ltd, a div. of Vishay Intertechnology, Inc. including leased workers of Volt, Benchmark, Thor, and Source One Staffing, Covina, CA: March 22, 2004.

TA-W-57,005; Burnes Group, LLC, a subsidiary of Global Home Products, including leased workers of Westaff, Claremont, NH: April 14, 2004.

TA-W-57,012; Springs Industries, Springs Window Fashions, LP, including leased on-Site Workers of Appleone, Integrity Staffing, and Staffmark, Reno, NV: April 7, 2004.

TA-W-56,988; Acuity Brands Lighting, Inc., a subsidiary of Acuity Brands, Inc., Peerless lighting Div., including leased workers of Aerotek Staffing, Berkeley, CA: April 18, 2004.

TA-W-57,144; Ultimate Manufacturing, Inc., San Antonio, TX: April 28, 2004.

TA-W-57,021; Plastic Moldings Company, LLC, Cincinnati Plant, including leased workers of Excel Staffing, Cincinnati, OH: April 12, 2004.

I hereby certify that the aforementioned determinations were issued during the months of April and May 2005. Copies of these determinations are available for inspection in Room C-5311, U.S. Department of Labor, 200 Constitution Avenue, NW., Washington, DC 20210, during normal business hours or will be mailed to persons who write to the above address.

Dated: May 18, 2005.
Timothy Sullivan,
Director, Division of Trade Adjustment Assistance.

[FR Doc. E5-2649 Filed 5-24-05; 8:45 am]

BILLING CODE 4510-30-P